DEPARTMENT OF HEALTH AND HUMAN SERVICES

Determination Concerning a Petition to Add a Class of Employees to the Special Exposure Cohort

AGENCY: National Institute for Occupational Safety and Health (NIOSH), Centers for Disease Control and Prevention, Department of Health and Human Services (HHS).

ACTION: Notice.

SUMMARY: HHS gives notice of a determination concerning a petition to add a class of employees from the Mound Plant in Miamisburg, Ohio, to the Special Exposure Cohort (SEC) under the Energy Employees Occupational Illness Compensation Program Act of 2000 (EEOICPA), 42 U.S.C. 7384q. On December 7, 2012, the Secretary of HHS determined that the following class of employees does not meet the statutory criteria for addition to the SEC as authorized under EEOICPA:

All employees of the Department of Energy, Department of Energy contractors, or subcontractors who worked in any area at the Mound Plant in Miamisburg, Ohio, during the period from March 1, 1959, through December 31, 2007, except for workers who fall within the Special Exposure Cohort (SEC) classes established by SEC petitions 00171 and 00207.

FOR FURTHER INFORMATION CONTACT: Stuart L. Hinnefeld, Director, Division of Compensation Analysis and Support, National Institute for Occupational Safety and Health (NIOSH), 4676 Columbia Parkway, MS C-46, Cincinnati, OH 45226, Telephone 1-877-222-7570. Information requests can also be submitted by email to DCAS@CDC.GOV.

John Howard,
Director, National Institute for Occupational Safety and Health.

[FR Doc. 2012-31283 Filed 12-27-12; 8:45 am]

BILLING CODE 4163-19-P